DEPARTMENT OF JUSTICE

Drug Enforcement Administration

[Docket No. DEA-392]

Importer of Controlled Substances Application: R & D Systems, Inc.

ACTION: Notice of application.

DATES: Registered bulk manufacturers of the affected basic classes, and applicants therefore, may file written comments on or objections to the issuance of the proposed registration on or before November 1, 2018. Such persons may also file a written request for a hearing on the application on or before November 1, 2018.

ADDRESSES: Written comments should be sent to: Drug Enforcement Administration, Attention: DEA Federal Register Representative/DPW, 8701 Morrissette Drive, Springfield, Virginia 22152. All requests for hearings must be sent to: Drug Enforcement Administration, Attn: Administrator, 8701 Morrissette Drive, Springfield, Virginia 22152. All requests for hearings should also be sent to: (1) Drug Enforcement Administration, Attn: Hearing Clerk/LJ, 8701 Morrissette Drive, Springfield, Virginia 22152; and (2) Drug Enforcement Administration, Attn: DEA Federal Register Representative/DPW, 8701 Morrissette Drive, Springfield, Virginia 22152. Comments and requests for hearings on applications to import narcotic raw material are not appropriate. 72 FR 3417, (January 25, 2007).

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Assistant Administrator of the DEA Diversion Control Division (“Assistant Administrator”) pursuant to section 7 of 28 CFR part 0, appendix to subpart R.

In accordance with 21 CFR 1301.34(a), this is notice that on April 9, 2018, R & D Systems, Inc., 614 McKinley Place NE, Minneapolis, Minnesota 55413-5541 applied to be registered as an importer of the following basic classes of controlled substances:

Controlled substance | Drug code | Schedule
Mephedrone (4-Methyl-N-methylcathinone) | 1248 | I
JWH-018 (also known as AM678) (1-Pentyl-3-(1-naphthoyl)indole) | 7118 | I
CP-47,497 (5-(1,1-Dimethylheptyl)-2-[(1R,3S)-3-hydroxycyclohexyl-phenol) | 7297 | I
Marihuana | 7360 | I
Tetrahydrocannabinols | 7370 | I
4-Bromo-2,5-dimethoxyamphetamine | 7391 | I
3,4-Methylenedioxymethamphetamine | 7405 | I
Dimethyltryptamine | 7435 | I
Psilocyn | 7438 | I
Pentobarbital | 2270 | II
Phencyclidine | 7471 | II
Cocaine | 9041 | II

The company plans to import bulk active controlled substances for distribution to its customers for research and analytical purposes. In reference to drug codes marihuana (7360) and tetrahydrocannabinols (7370) the company plans to import a synthetic cannabidiol and a synthetic tetrahydrocannabinol. No other activity for these drug codes is authorized for this registration.

Dated: September 20, 2018.
John J. Martin,
Assistant Administrator.

[FR Doc. 2018-21334 Filed 10-1-18; 8:45 am]

BILLING CODE 4410-09-P